POSTAL SERVICE

39 CFR Part 241

Discontinuance of Post Offices

AGENCY: Postal Service.

ACTION: Final rule.

SUMMARY: This final rule amends the regulations for the establishment, classification, and discontinuance of Post Offices™.

DATES: The rule is effective March 11, 2004.

FOR FURTHER INFORMATION CONTACT: Fred Hintenach, manager of Customer Service Operations, at (202) 268-5045, or by fax at (202) 268-5102.

SUPPLEMENTARY INFORMATION: The United States Postal Service® is publishing amendments to 39 CFR Part 241.3, specifically related to the discontinuance of Post Offices to incorporate regulation changes concerning ZIP Code™ retention at discontinued offices, as well as the approval authority related to final actions on discontinuances.

List of Subjects in 39 CFR Part 241

Postal Service.

PART 241—ESTABLISHMENT CLARIFICATION AND DISCONTINUANCE

1. The authority citation for 39 CFR Part 241 continues to read as follows:

Authority: 39 U.S.C. 401, 404.

§ 241.3 [Amended]

2. Section 241.3 is amended by revising paragraphs (b)(2) introductory text and (b)(2)(i), (d)(4) introductory text, (e)(2)(ii)(A), (f)(1), (f)(2) introductory text, (f)(3) through (f)(5), (g)(1)(i), (g)(2), (g)(3)(i), (g)(3)(ii) introductory text, and (g)(4)(ii) to read as follows:

§ 241.3 Discontinuance of post offices.

* * * * *

(b) * * *

* * * * *

(2) ZIP Code assignment. The ZIP Code for each address formerly served from the discontinued post office should be kept, wherever practical. In some cases, the ZIP Code originally assigned to the discontinued post office may be changed if the responsible district manager, Customer Service and Sales, submits a request with justification to his or her vice president, Area Operations, before the proposal to discontinue the post office is posted.

(i) In a consolidation, the ZIP Code for the replacement community post office, station, or branch is the ZIP Code originally assigned to the discontinued post office.

* * * * *

(d) * * *

(4) Record. The district manager, Customer Service and Sales, must keep as part of the record for his or her consideration and for review by the vice president, Delivery and Retail, all the documentation gathered about the proposed change.

* * * * *

(e) * * *

(2) * * *

(ii) * * *

(A) Forward the revised proposal and the entire record to the vice president, Delivery and Retail.

* * * * *

(f) * * *

(1) In general. The vice president, Delivery and Retail, or a designee must review the proposal of the district manager, Customer Service and Sales. This review and the decision on the proposal must be based on and supported by the record developed by the district manager, Customer Service and Sales. The vice president, Delivery and Retail, can instruct the district manager to provide more information to supplement the record. Each instruction and the response must be added to the record. The decision on the proposal of the district manager, which must also be added to the record, may approve or disapprove the proposal, or return it for further action as set forth in this paragraph (f).

(2) Approval. The vice president, Delivery and Retail or a designee may approve the proposal of the district manager, Customer Service and Sales, with or without further revisions. If approved, the term “Final Determination” is substituted for “Proposal” in the title. A copy of the Final Determination must be provided to the district manager. The Final Determination constitutes the Postal Service determination for the purposes of 39 U.S.C. 404(b). The Final Determination must include the following notices:

* * * * *

(3) Disapproval. The vice president, Delivery and Retail, or a designee may disapprove the proposal of the district manager, Customer Service and Sales, and return it and the record to the manager with written reasons for disapproval. The manager must post a notice in each affected post office that the proposed closing or consolidation has been determined to be unwarranted.

(4) Return for further action. The vice president, Delivery and Retail, or a designee may return the proposal of the district manager, Customer Service and Sales, with written instructions to give additional consideration to matters in the record, or to obtain additional information. Such instructions must be placed in the record.

(5) Public file. Copies of each Final Determination and each disapproval of a proposal by the vice president, Delivery and Retail, must be placed on file in the Postal Service Headquarters library.

(g) * * *

(1) * * *

(i) Provide notice of the Final Determination by posting a copy prominently in the affected post office or offices. The date of posting must be noted on the first page of the posted copy as follows: “Date of posting:” The district manager, Customer Service and Sales, must notify the vice president, Delivery and Retail, of the date of posting.

* * * * *

(2) Implementation of determinations not appealed. If no appeal is filed pursuant to 39 U.S.C. 404(b)(5), the official closing date of the office must be published in the Postal Bulletin, effective the first Saturday 90 days after the Final Determination was posted. A district manager, Customer Service and Sales, may request a different date for official discontinuance in the Post Office Change Announcement document submitted to the vice president, Delivery and Retail. However, the post office may not be discontinued sooner than 60 days after the posting of the notice required by paragraph (g)(1) of this section.

(3) * * * (i) Implementation of discontinuance. If an appeal is filed, only the vice president, Delivery and Retail, may direct a discontinuance before disposition of the appeal. However, the post office may not be discontinued sooner than 60 days after the posting of notice required by paragraph (g)(1) of this section.

(ii) Display of appeal documents. Legal Policy and Ratemaking Law, Postal Service General Counsel, must provide the district manager, Customer Service and Sales, with copies of all pleadings, notices, orders, briefs, and opinions filed in the appeal proceeding.

* * * * *

(4) * * *

(ii) Determination returned for further consideration. If the Commission returns the matter for further consideration, the vice president, Delivery and Retail, must direct that either:

(A) Notice be provided under paragraph (f)(3) of this section that the proposed discontinuance is determined not to be warranted or

(B) The matter be returned to an appropriate stage under this section for further consideration following such instructions as the vice president, Delivery and Retail, may provide.

Neva R. Watson,
Attorney, Legislative.

[FR Doc. 04-5402 Filed 3-10-04; 8:45 am]

BILLING CODE 7710-12-P